COMMISSION ON CIVIL RIGHTS

Sunshine Act Notice

AGENCY: U.S. Commission on Civil Rights.

DATE AND TIME: Friday, January 12, 2001, 8:00 a.m.

PLACE: Holiday Inn Select Hotel, 316 West Tennessee Street, Tallahassee, FL 32301.

STATUS:

Agenda

I. Approval of Agenda

II. Approval of Minutes of December 8, 2000 Meeting

III. Announcements

IV. Staff Director's Report

V. Planning Meeting for 2001

VI. Final Report Card: The Civil Rights Performance of the Clinton Administration

VII. State Advisory Committee Report

• Who is Enforcing Civil rights in Arkansas: Is There a Need for a State Civil Rights Agency?

VIII. Future Agenda Items

9:00 a.m. Hearing To Reconvene From Previous Day

CONTACT PERSON FOR FURTHER INFORMATION: Les Jin, Office of the Staff Director (202) 376-7700.

Edward A. Hailes, Jr.,
Acting General Counsel.

[FR Doc. 01-459 Filed 1-3-01; 2:12 pm]

BILLING CODE 6335-00-M